DEPARTMENT OF HOMELAND SECURITY

Coast Guard

[Docket No. USCG-2016-0886]

Notice of Public Listening Session: Heavy Fuel Oil in the Arctic

AGENCY: Coast Guard, DHS.

ACTION: Notice of public listening session.

SUMMARY: The United States Coast Guard will conduct a public listening session in Washington, DC, on the topic of heavy fuel oil use by ships in the Arctic. The purpose of this public listening session is for the Coast Guard to gather information on issues relating to the use of heavy fuel oil (HFO) by ships in the Arctic.

DATES: This public listening session will begin at 10:00 a.m., Eastern Time and end at 12:00 p.m., Eastern Time on Tuesday, September 27, 2016. This meeting is open to the public, either in person or by phone. Seating is limited and the venue has security requirements, so an RSVP is required to assure that space is available, arrange for entry, and to receive teleconference instructions. RSVPs for U.S. citizens are required by September 21, and non-U.S. citizens must RSVP by September 19.

ADDRESSES: The public listening session will be held in Room W22-308 of the United States Department of Transportation Headquarters building in Washington, DC. The United States Department of Transportation Headquarters building is located at 1200 New Jersey Ave. SE., Washington, DC 20590, across from the Navy Yard Metro Station. Due to security requirements, each visitor must RSVP in advance, and present a valid government-issued photo identification (for example, a driver's license or passport) in order to gain entrance to the building. Due to limited seating and security requirements, an RSVP is required by Wednesday, September 21, 2016 for U.S. citizens and by Monday, September 19, 2016 for non-U.S. citizens. Contact the Coast Guard (see FOR FURTHER INFORMATION CONTACT) to RSVP and to facilitate the security process related to building access, or to request reasonable accommodation.

FOR FURTHER INFORMATION CONTACT: For additional information about this public listening session you may contact Mr. Wayne Lundy by telephone at 202-372-1379 or by email at Wayne.M.Lundy@uscg.mil.

SUPPLEMENTARY INFORMATION: The Coast Guard is hosting a public listening session on the use of heavy fuel oil (HFO) by ships in the Arctic on September 27, 2016. The purpose of this public listening session is for the Coast Guard to gather information on issues relating to the use of heavy fuel oil (HFO) by ships in the Arctic. Please note that there is no obligation to attend and that no specific regulatory or other actions will be presented at this session. The agenda is as follows:

At the onset of the session, the Coast Guard will provide a brief overview regarding the existing measures found in IMO Polar Code—Resolution MSC.385(94), and in the International Convention on Standards of Training, Certification and Watchkeeping for Seafarers (STCW Code) addressing Polar Waters.

Following the Coast Guard's introduction, the public is invited to speak on items relating to the use of HFO by ships. Specifically, the Coast Guard is interested in public viewpoints relating to: (1) Environmental risks to Arctic waters posed by HFO use by ships; (2) potential measures that could be taken to reduce those risks to Arctic waters; and (3) the development, sustainment, and economics of communities that would be directly affected by such measures, particularly remote indigenous populations and business interests vital to remote population centers.

Procedural

This listening session is open to the public. Please note that the public listening session venue has limited seating and security requirements, and thus requires individuals wishing to attend in person to RSVP by Wednesday, September 21, 2016 for U.S. citizens, and by Monday, September 19, 2016 for non-U.S. citizens. There will be audiovisual arrangements available for those interested in making brief (15 minutes or less) presentations. Teleconference information will be made available upon receipt of an RSVP. Additionally, written comments will be accepted both at the listening session and via email. Those interested in making presentations, submitting written comments, or teleconferencing should contact Mr. Wayne Lundy by telephone at (202) 372-1379 or by email at Wayne.M.Lundy@uscg.mil. A final agenda including a list of those making presentations will be distributed prior to the meeting. The Coast Guard will consider all information provided as public information.

Please note that the Coast Guard will not be providing comments or responding to information provided at the listening session.

Information on Services for Individuals With Disabilities

For information on facilities or services for individuals with disabilities or to request special assistance at the meeting, contact Mr. Wayne Lundy at (202) 372-1379 or by email at Wayne.M.Lundy@uscg.mil as soon as possible.

Dated: September 12, 2016.
J.G. Lantz,
Director of Commercial Regulations and Standards, U.S. Coast Guard.

[FR Doc. 2016-22222 Filed 9-14-16; 8:45 am]

BILLING CODE 9110-04-P